DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 28, 2010 through July 2, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Under Section 222(a)(2)(B), all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,046 | QualityLogic, Incorporated | Boise, ID | December 3, 2008.
73,904 | ConAgra Foods Lamb Weston, Inc., Leased Workers Manpower and Barrett Business Services | Prosser, WA | April 9, 2009.
73,960 | 668 Fashion, Inc. | New York, NY | April 16, 2009.

The following certifications have been issued. The requirements of Section 222(a)(2)(B) (shift in production or services) of the Trade Act have been met.

TA-W No. | Subject firm | Location | Impact date
73,025 | Harkham Industries, Inc., d/b/a/Jonathan Martin | Los Angeles, CA | December 2, 2008.
73,075 | ABB, Inc., Robotics Division North America, Beeline Corporation | Auburn Hills, MI | December 4, 2008.
73,078 | HSBC, Consumer Lending Records Department | Elmhurst, IL | November 23, 2008.
73,288 | Eastman Kodak Company, Organic Light Emitting Diode Display Business Division | Rochester, NY | January 13, 2009.
73,443 | Sungard Availability Services, LP, Including leased workers of Insight Global, Harvey Nash and Intellisource | Thornton, CO | January 27, 2009.
73,466 | Chart Energy and Chemicals, LA Crosse Division, Chart Industries, Inc., Express Employ., etc | La Crosse, WI | January 29, 2009.
73,542 | Sanofi-Aventis, LLC, Industrial Affairs Division, Pro-Unlimited@Sanofi-Aventis | Kansas City, MO | February 10, 2009.
73,595 | British Telecom America, A Subsidiary of BT PLC, including workers from Manpower and Tech | El Segundo, CA | March 1, 2009.
73,757 | Pricewaterhousecoopers, LLP, Internal Firm Services Division, Client Account Administrators | Los Angeles, CA | March 12, 2009.
73,860 | Metalsa Structural Products, Product Validaton Group, Leased Workers from Yoh Services | Pottstown, PA | April 1, 2009.
73,912 | Amdocs, Inc., Order and Wholesale Solutions Group of AT&T Managed Services | New Haven, CT | April 9, 2009.
73,941 | Applied Materials, Inc., Leased Workers from Adecco USA | Salt Lake City, UT | April 12, 2009.
73,987 | Ford Motor Credit Company, LLC, Colorado Springs Business Center, Leased Workers MSX International | Colorado Springs, CO | April 22, 2009.
73,995 | Datamatics Global Services, Inc., Data Entry Group, Datamatics Global Services, Ltd | Burlington, MA | April 16, 2009.
73,996 | General Electric Motors Plant, Energy (Motors) Division | Owensboro, KY | April 23, 2009.
74,019 | Choicepoint, A LexisNexis Company, Leased Workers Global Contract Services (GCS) etc | Brea, CA | April 26, 2009.
74,064 | Aviat U.S., Inc., Including Greene Resources, Inc | San Antonio, TX | May 7, 2009.
74,088 | ABB, Inc. | Mount Pleasant, PA | May 10, 2009.
74,110 | Microsemi Corporation—Scottsdale, Microsemi Corporation, Leased workers Superior Staffing | Scottsdale, AZ | May 17, 2009.
74,117 | Mark Machine, Division of Paragon Medical | Fairfield, NJ | May 18, 2009.
74,126 | Broadview Networks Holdings, Inc | King of Prussia, PA | May 7, 2009.
74,149 | Hartford Financial Services Group, Inc., Claims Department/Auto Commercial Liability | Indianapolis, IN | April 29, 2009.
74,149A | Hartford Financial Services Group, Inc., Claims Department/Auto Commercial Liability | Tampa, FL | April 29, 2009.
74,217 | Honeywell International, Inc., Aerospace Division, Inbound Logistics Group | Phoenix, AZ | June 7, 2009.
74,250 | Charming Shoppes of Delaware, Inc., Accounts Payable, Rent and Merchandise Disbursement, Shared Service Center | Bensalem, PA | June 15, 2009.

The following certifications have been issued. The requirements of Section 222(c) (supplier to a firm whose workers are certified eligible to apply for TAA) of the Trade Act have been met.

TA-W No. | Subject firm | Location | Impact date
72,977 | Henniges Automotive, a Subsidiary of Wynnchurch Capital | New Haven, MO | November 2, 2008.
73,072 | Android Industries Belvidere, LLC, Leased Workers from QPs Employment Group and Spherion Corporation | Belvidere, IL | December 9, 2008.
73,345 | Inteva Products, LLC, Leased Workers from Accretive Solutions, Acro Services Corporation | Vandalia, OH | December 16, 2008.
73,389 | Allagash Enterprise, Inc | Allagash, ME | January 3, 2009.
73,767 | Toyoda Gosei North American Corporation, Including leased workers of Aerotek, Brooksource, LLC, etc | Troy, MI | March 12, 2009.
74,137 | SPS Technologies, LLC, North America Fasteners Division, Leased Workers of Area Temps | Cleveland, OH | May 24, 2009.

The following certifications have been issued. The requirements of Section 222(c) (downstream producer for a firm whose workers are certified eligible to apply for TAA) of the Trade Act have been met.

TA-W No. | Subject firm | Location | Impact date
72,722 | ArcelorMittal Tubular Products, ArcelorMittal | Shelby, OH | October 22, 2008.
73,460 | Milacron Plastics Technologies Group LLC, Leased Workers from Viox Servcies | Batavia, OH | February 4, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
73,948 | Central Oregon Workensport | Bend, OR |

The investigation revealed that the criteria under paragraphs(a)(2)(A) (increased imports) and (a)(2)(B) (shift in production or services to a foreign country) of section 222 have not been met.

TA-W No. | Subject firm | Location | Impact date
72,088 | Active USA, LLC, A Division of JHT Holdings, Inc | Springfield, OH |
72,335 | Husky Injection Molding Systems, Inc., A Subsidiary of Husky Injection Molding Systems, LTD | Milton, VT |
72,812 | Ford Motor Company, Wayne Assembly Plant | Wayne, MI |
73,048 | Mohawk Flush Doors, Masonite International | South Bend, IN |
73,093 | Ruan Transport, Ruan Transport Management Systems | Marshalltown, IA |
73,240 | Union Oil of California, Chevron North America, Exploration and Production | Anchorage, AK |
73,607 | Armstrong World Industries, Inc., Hardwood Strip Flooring Mill | Oneida, TN |
73,853 | Science Applications International Corporation, Commercial Business Services BU, Working on Contract for BP Corporation | Naperville, IL |
74,049 | Trans States Airlines LLC, Passenger Service Agents, Lambert-St. Louis International Airport | St. Louis, MO |
74,139 | KDH Defense Systems, Inc. | Johnstown, PA |
74,221 | Tri-Tube Inc. | Abingdon, VA |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
72,968 | WC Wood Corporation, Inc. | Ottawa, OH
73,602 | Apria Healthcare | Jackson, TN
74,114 | Hagemeyer North America | Hagerstown, MD
74,251 | Almatis, Inc. | Bauxite, AR
74,308 | Progress Software Corporation | Bedford, MA

The following determinations terminating investigations were issued because the petitioning groups of workers are covered by active certifications. Consequently, further investigation in these cases would serve no purpose since the petitioning group of workers cannot be covered by more than one certification at a time.

TA-W No. | Subject firm | Location | Impact date
74,186 | General Motors, Warren Technical Center | Warren, MI
74,261 | Kenco Logistic Services, LLC | Evansville, IN

I hereby certify that the aforementioned determinations were issued during the period of June 28, 2010 through July 2, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: July 8, 2010.
Elliott S. Kushner,
Certifying Officer, Division of Trade Adjustment Assistance.

[FR Doc. 2010-17383 Filed 7-15-10; 8:45 am]

BILLING CODE 4510-FN-P